GENERAL SERVICES ADMINISTRATION

[Notice-PBRB-2019-02; Docket No. 2019-0012; Sequence No. 2]

Public Meetings of the Public Buildings Reform Board

AGENCY: Public Buildings Reform Board, GSA.

ACTION: Meetings notice.

SUMMARY: As provided in section 5 of the Federal Assets Sale and Transfer Act of 2016 (FASTA), the Public Buildings Reform Board (PBRB) gives notice of three upcoming public meetings. At the public meeting in Washington, DC, the PBRB will receive input regarding proposed methodologies and criteria for selecting Federal properties for disposal with an emphasis on High Value Properties. The PBRB will also hear from commercial real estate representatives to gain their perspective on private sector valuation practices as they apply to Federal property proposed for disposal and other relevant private sector practices. At the public meetings in Los Angeles, California and Denver, Colorado the Board will consider a number of Federal properties located in the western United States.

DATES: Public meetings will be held on Tuesday, July 16, 2019 in Washington, DC, Wednesday, July 24, 2019, in Los Angeles, California, and Thursday, July 25, 2019 in Denver, Colorado.

ADDRESSES: The public meeting in Washington, DC, will be held from 9 a.m. to 12 p.m., Eastern Time, at 1800 F Street NW, in Room 1461.

The public meeting in Los Angeles, California will be held from 1 p.m. to 4 p.m., Pacific Time. The location is still being determined.

The public meeting in Denver, Colorado will be held from 9 a.m. to 12:30 p.m., Mountain Time, at the Denver Federal Center, Building 41, in the Remington Arms Conference Room.

FOR FURTHER INFORMATION CONTACT: Angela Styles at 202-227-7615, or via email at angela.styles@pbrb.gov.

SUPPLEMENTARY INFORMATION:

Background

FASTA created the PBRB as an independent Board to identify opportunities for the Federal government to significantly reduce its inventory of civilian real property and thereby reduce costs. The Board is directed, within 6 months of its formation, to recommend to the Office of Management and Budget (OMB) the sale of not fewer than five properties not on the list of surplus or excess with a fair market value of not less than $500 million and not more than $750 million. In two subsequent rounds over a five-year period, the Board is responsible for making recommendations for other sales, consolidations, property disposals or redevelopment of up to $7.25 billion.

Format

The format for all public meetings will be panel discussions with appropriate time allowed for Q&A. Each panel will be composed of invited representatives for that specific area.

A portion of the meeting will be held in Executive Session if the Board is considering issues involving classified or proprietary information.

Registration

The meetings are open to the public, but prior registration is required. Please register three (3) business days before the scheduled meetings. To attend the Washington, DC meeting, please register at the following link: https://www.eventbrite.com/e/public-meeting-of-the-public-buildings-reform-board-tickets-64305278820.

To attend the meeting in Los Angeles, California, and check for updates on location, please register at the following link: https://www.eventbrite.com/e/public-meeting-of-the-public-buildings-reform-board-tickets-64340333670.

To attend the meeting in Denver, Colorado, please register at the following link: https://www.eventbrite.com/e/public-meeting-of-the-public-buildings-reform-board-tickets-64327265583.

Those wishing to participate as panelists for the public meetings are invited to contact the PBRB by emailing angela.styles@pbrb.gov.

Dated: July 1, 2019.
Angela Styles,
Board Member, Public Buildings Reform Board.

[FR Doc. 2019-14364 Filed 7-3-19; 8:45 am]

BILLING CODE 3412-RT-P